DEPARTMENT OF ENERGY

Federal Energy Regulatory Commission

Combined Notice of Filings

Take notice that the Commission has received the following Natural Gas Pipeline Rate and Refund Report filings:

Filings Instituting Proceedings

* * * * *

Docket Numbers: RP11-2396-000.

Applicants: CenterPoint Energy—Mississippi River Transmission, LLC.

Description: CenterPoint Energy—Mississippi River Transmission, LLC submits tariff filing per 154.204: ACA Filing-2011 to be effective 10/1/2011.

Filed Date: 08/18/2011.

Accession Number: 20110818-5020.

Comment Date: 5 p.m. Eastern Time on Tuesday, August 30, 2011.

Docket Numbers: RP11-2397-000.

Applicants: Cheniere Creole Trail Pipeline, L.P.

Description: Cheniere Creole Trail Pipeline, L.P. submits tariff filing per 154.402: Semi ACA Filing to be effective 10/1/2011.

Filed Date: 08/18/2011.

Accession Number: 20110818-5059.

Comment Date: 5 p.m. Eastern Time on Tuesday, August 30, 2011.

Docket Numbers: RP11-2398-000.

Applicants: Granite State Gas Transmission, Inc.

Description: Granite State Gas Transmission, Inc. submits tariff filing per 154.402: ACA Change to Section 4 to be effective 10/1/2011.

Filed Date: 08/18/2011.

Accession Number: 20110818-5065.

Comment Date: 5 p.m. Eastern Time on Tuesday, August 30, 2011.

Docket Numbers: RP11-2399-000.

Applicants: Chandeleur Pipe Line Company.

Description: Chandeleur Pipe Line Company submits tariff filing per 154.402: Chandeleur Pipe Line Company 2011 ACA Filing to be effective 10/1/2011.

Filed Date: 08/18/2011.

Accession Number: 20110818-5088.

Comment Date: 5 p.m. Eastern Time on Tuesday, August 30, 2011.

Docket Numbers: RP11-2400-000.

Applicants: Transcontinental Gas Pipe Line Company, LLC.

Description: Transcontinental Gas Pipe Line Company, LLC submits tariff filing per 154.501: Report of Refund Transco's GSS LSS Customers Share of DTI Penalty Revenue 2011 to be effective N/A.

Filed Date: 08/18/2011.

Accession Number: 20110818-5092.

Comment Date: 5 p.m. Eastern Time on Tuesday, August 30, 2011.

Docket Numbers: RP11-2401-000.

Applicants: Equitrans, L.P.

Description: Equitrans, L.P. submits tariff filing per 154.402: Equitrans, L.P. 2011 Annual Charge Adjustment Filing to be effective 10/1/2011.

Filed Date: 08/18/2011.

Accession Number: 20110818-5093.

Comment Date: 5 p.m. Eastern Time on Tuesday, August 30, 2011.

Docket Numbers: RP11-2402-000.

Applicants: Northern Border Pipeline Company.

Description: Northern Border Pipeline Company submits tariff filing per 154.203: Princeton Lateral Compliance to CP10-468 to be effective 12/31/9998.

Filed Date: 08/19/2011.

Accession Number: 20110819-5010.

Comment Date: 5 p.m. Eastern Time on Wednesday, August 31, 2011.

Docket Numbers: RP11-2403-000.

Applicants: Rockies Express Pipeline LLC.

Description: Rockies Express Pipeline LLC submits tariff filing per 154.204: ACA 2011 to be effective 10/1/2011.

Filed Date: 08/22/2011.

Accession Number: 20110822-5049.

Comment Date: 5 p.m. Eastern Time on Tuesday, September 06, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

* * * * *

Docket Numbers: RP11-2183-001.

Applicants: Gas Transmission Northwest Corporation.

Description: Gas Transmission Northwest Corporation submits tariff filing per 154.203: RP11-2183 Compliance to be effective 4/11/2011.

Filed Date: 08/22/2011.

Accession Number: 20110822-5015.

Comment Date: 5 p.m. Eastern Time on Tuesday, September 06, 2011.

Docket Numbers: RP11-2092-002.

Applicants: Big Sandy Pipeline, LLC.

Description: Big Sandy Pipeline, LLC submits tariff filing per 154.203: Order 587-U Compliance Filing to be effective 8/16/2011.

Filed Date: 08/19/2011.

Accession Number: 20110819-5075.

Comment Date: 5 p.m. Eastern Time on Wednesday, August 31, 2011.

Docket Numbers: RP11-2396-001.

Applicants: CenterPoint Energy—Mississippi River Transmission, LLC.

Description: CenterPoint Energy—Mississippi River Transmission, LLC submits tariff filing per 154.205(b): Amended ACA Filing—2011 to be effective 10/1/2011.

Filed Date: 08/19/2011.

Accession Number: 20110819-5055.

Comment Date: 5 p.m. Eastern Time on Wednesday, August 31, 2011.

Docket Numbers: RP11-2387-001.

Applicants: Sabine Pipe Line LLC.

Description: Sabine Pipe Line LLC submits tariff filing per 154.205(b): Sabine Pipe Line LLC Amendment to 2011 ACA Filing to be effective 10/1/2011.

Filed Date: 08/18/2011.

Accession Number: 20110818-5087.

Comment Date: 5 p.m. Eastern Time on Tuesday, August 30, 2011.

Docket Numbers: RP11-2387-002.

Applicants: Sabine Pipe Line LLC.

Description: Sabine Pipe Line LLC submits tariff filing per 154.205(b): Sabine Pipe Line LLC 2011 ACA Filing—Amendment to be effective 10/1/2011.

Filed Date: 08/18/2011.

Accession Number: 20110818-5105.

Comment Date: 5 p.m. Eastern Time on Tuesday, August 30, 2011.

Docket Numbers: RP09-882-001.

Applicants: Questar Pipeline Company.

Description: Questar Pipeline Company's Annual Gas Sales Report for its Clay Basin Storage Reservoir for the 12-month period ending April 30, 2011.

Filed Date: 08/17/2011.

Accession Number: 20110817-5089.

Comment Date: 5 p.m. Eastern Time on Monday, August 29, 2011.

Docket Numbers: RP11-2378-001.

Applicants: Carolina Gas Transmission Corporation.

Description: Carolina Gas Transmission Corporation submits tariff filing per 154.205(b): Amendment—ACA Filing (RP11-2378) to be effective 10/1/2011.

Filed Date: 08/17/2011.

Accession Number: 20110817-5023.

Comment Date: 5 p.m. Eastern Time on Monday, August 29, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 22, 2011.
Nathaniel J. Davis, Sr.,
Deputy Secretary.

[FR Doc. 2011-21998 Filed 8-26-11; 8:45 am]

BILLING CODE 6717-01-P